NATIONAL CREDIT UNION ADMINISTRATION

Notice of Meetings

TIME AND DATE: 10 a.m., Thursday, November 16, 2000.

PLACE: Board Room, 7th Floor, Room 7047, 1775 Duke Street, Alexandria, VA 22314-3428.

STATUS: Open.

MATTERS TO BE CONSIDERED: 1. Appeals from Two (2) Federal Credit Unions of the Regional Directors' Denials of Conversion from a Multiple Common Bond to a Community Charter.

2. Advance Notice of Proposed Rulemaking: Part 704, NCUA's Rules and Regulations, Corporate Credit Unions.

3. Proposed Rule: Amendments to Part 721, NCUA's Rules and Regulations, Federal Credit Union Insurance and Group Purchasing Activities.

4. NCUA's 2001 Annual Performance Plan.

5. Proposed Information Systems and Technology Examination Program (ISTEP).

6. NCUA's 2001/2002 Operating Budget.

7. Proposed Operating Fee Scale.

RECESS: 11:15 a.m.

TIME AND DATE: 11:30 a.m., Thursday, November 16, 2000.

PLACE: Board Room, 7th Floor, Room 7047, 1775 Duke Street, Alexandria, VA 22314-3428.

STATUS: Closed.

MATTERS TO BE CONSIDERED: 1. Administrative Action under Part 704 of NCUA's Rules and Regulations. Closed pursuant to exemption (8).

2. One (1) Personnel Matter. Closed pursuant to exemptions (2) and (6).

FOR FURTHER INFORMATION CONTACT: Becky Baker, Secretary of the Board, Telephone 703-518-6304.

Becky Baker,
Secretary of the Board.

[FR Doc. 00-29105 Filed 11-8-00; 3:58 pm]

BILLING CODE 7535-01-M